DEPARTMENT OF COMMERCE

National Oceanic and Atmospheric Administration

RIN 0648-XF240

Mid-Atlantic Fishery Management Council (MAFMC); Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Wednesday and Thursday, March 15-16, 2017, beginning at 1 p.m. on March 15 and conclude by 1 p.m. on March 16. For agenda details, see SUPPLEMENTARY INFORMATION.

ADDRESSES: The meeting will at the Royal Sonesta Harbor Court, 550 Light Street, Baltimore, MD 21202; telephone: (410) 234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of this meeting is to make multi-year ABC recommendations for golden and blueline tilefish based on updated stock assessment information recently complied for both species. In addition, topics to be discussed include the NEFSC Ecosystem Status Report, SSC OFL CV Progress Report, MRIP Evaluation Report and establishing status determination criteria for chub mackerel.

Special Accommodations

These meetings are physically accessible to people with disabilities. Requests for sign language interpretation or other auxiliary aid should be directed to M. Jan Saunders, (302) 526-5251, at least 5 days prior to the meeting date.

Dated: February 21, 2017.
Tracey L. Thompson,
Acting Deputy Director, Office of Sustainable Fisheries, National Marine Fisheries Service.

[FR Doc. 2017-03658 Filed 2-23-17; 8:45 am]

BILLING CODE 3510-22-P